DEPARTMENT OF DEFENSE

Department of the Army; Corps of Engineers

Board on Coastal Engineering Research

AGENCY: Department of the Army, DoD.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will take place:

Name of Committee: Board on Coastal Engineering Research.

Date of Meeting: September 4-6, 2013.

Place: Atlantic Ballroom, Ocean Place Resort and Spa, One Ocean Boulevard, Long Branch, NJ 07740.

Time: 8:00 a.m. to 1:30 p.m. (September 4, 2013). 8:00 a.m. to 5:00 p.m. (September 5, 2013). 8:00 a.m. to 11:00 a.m. (September 6, 2013).

Purpose of the Meeting: The purpose of the meeting is to explore impacts due to Hurricane Sandy on the water resources infrastructure and coastlines of North Atlantic Division and discuss research needs associated with sustaining resilient coastal communities and systems through risk reduction, regional sediment management, and ecosystem restoration activities.

Agenda: Presentations and panel presentations on Wednesday morning, September 4, will include a Charge to the Board by the Chief of Engineers and panel presentations dealing with Hurricane Sandy: Response and Recovery. Presentations dealing with Response include Forecasting Hurricane Sandy, State of New Jersey Response to Hurricane Sandy, New York City Response to Hurricane Sandy, and National Hurricane Program. Presentations dealing with Recovery (Part 1) include Hurricane Sandy Rebuilding Task Force and Hurricane Sandy Coastal Projects Performance Evaluation Study. There will be an optional field trip Wednesday afternoon to visit Sea Bright, Union Beach, Mantoloking, and Ortley Beach.

On Thursday, September 5, 2013, there will be panel presentations dealing with Hurricane Sandy: Recovery (Part 2) and Hurricane Sandy: Resilience. Presentations dealing with Hurricane Sandy: Recovery include Coastal Breach Closures, Addressing Post-Storm Beach Repair Challenges, The Port Authority of New York/New Jersey Recovery Operations, and Science and Technology Solutions that Supported Response and Recovery. Presentations dealing with Hurricane Sandy: Resilience include USACE North Atlantic Coast Comprehensive Study; Innovative Approach to Coastal System Resilience; Recommendation to Improve the Strength and Resilience of the Empire State's Infrastructure; Making Coastal Communities Resilient; Coastal Resilience, a Municipality Perspective; and A Framework for Quantifying Resilient Coastal Systems. There will be a luncheon speaker to discuss Improving Resilience to Coastal Storms for the City of New York.

The Board will meet in Executive Session to discuss ongoing initiatives and ongoing and future actions on Friday morning, September 6, 2013.

Public Participation: Pursuant to 5 U.S.C. 552b and 41 CFR 102-3.140 through 102-3.165, and the availability of space, the Board on Coastal Engineering Research meeting is open to the public. Participation by the public is scheduled for 4:00 p.m. on Thursday, September 5, 2013.

The entire meeting and field trip are open to the public, but since seating capacity is limited, advance notice of attendance is required. Oral participation by public attendees is encouraged during the time scheduled on the agenda; written statements may be submitted to the Federal Designated Officer for the Board on Coastal Engineering Research prior to the meeting or up to 30 days after the meeting and addressed to COL Jeffrey R. Eckstein, Designated Federal Officer and Executive Secretary, U.S. Army Engineer Research and Development Center, Waterways Experiment Station, 3909 Halls Ferry Road, Vicksburg, MS 39180-6199, phone 601-634-2513, or Jeffrey.R.Eckstein@usace.army.mil.

SUPPLEMENTARY INFORMATION:

The Board provides broad policy guidance and review of plans and fund requirements for the conduct of research and development of research projects in consonance with the needs of the coastal engineering field and the objectives of the Chief of Engineers.

FOR FURTHER INFORMATION CONTACT: COL Jeffrey R. Eckstein, Designated Federal Officer and Executive Secretary, U.S. Army Engineer Research and Development Center, Waterways Experiment Station, 3909 Halls Ferry Road, Vicksburg, MS 39180-6199, phone 601-634-2513, or Jeffrey.R.Eckstein@usace.army.mil.

Jeffrey R. Eckstein,
Colonel, Corps of Engineers, Designated Federal Officer.

[FR Doc. 2013-19296 Filed 8-8-13; 8:45 am]

BILLING CODE 3710-28-P